DEPARTMENT OF HOMELAND SECURITY

Bureau of Customs and Border Protection

19 CFR Part 101

[CBP Dec. 03—08]

Expansion of the Port Limits of Portland, ME

AGENCY: Customs and Border Protection, Homeland Security.

ACTION: Final rule.

SUMMARY: This document amends the Customs Regulations pertaining to the field organization of Customs by extending the geographical limits of the port of entry of Portland, Maine, to include the City of Auburn, Maine. This change is being made to provide better service to carriers, importers, and the general public.

EFFECTIVE DATE: August 18, 2003.

FOR FURTHER INFORMATION CONTACT: John P. Wagner, Office of Field Operations, (202) 927-3825.

SUPPLEMENTARY INFORMATION:

Background

A Notice of Proposed Rulemaking was published in the Federal Register (68 FR 1172) on January 9, 2003, which proposed to amend § 101.3(b)(1), Customs Regulations (19 CFR 101.3(b)(1)), to extend the geographical limits of the port of entry of Portland, Maine, to include the City of Auburn in order to provide better service to carriers, importers, and the general public. The proposal was made in order to include the City of Auburn within the port limits to facilitate the clearance of international cargo at the Auburn Intermodal Facility (“AIF”). AIF is a rail/truck intermodal facility with a high cube, doublestack intermodal terminal.

Analysis of Comments

Three comments were received in response to the proposal. AlI three comments strongly supported the inclusion of the City of Auburn in the port of Portland, Maine, for the purposes of international trade facilitation and of expanded economic development in the Auburn area.

According to the comments, the AIF will afford the Bureau of Customs and Border Protection (CBP) great flexibility in protecting our borders against terrorist activities when conducting examinations and clearance of cargo entering the United States. The expansion of the port of Portland will also help to eliminate needless truck traffic on the highway system by allowing examinations and clearance closest to the point of entry. Trucks will no longer need to travel further in bound to be examined. These benefits are in addition to the economic boost which is expected to occur as a result of the port expansion.

Conclusion

CBP believes that the expansion of the port of Portland, Maine, to include the City of Auburn is a positive step in the facilitation of the processing of international cargo. Accordingly, CBP has decided to proceed with the proposed expansion.

New Port Limits

The port limits of the port of entry of Portland, Maine, are expanded to include the City of Auburn. The territory included in the port of Portland is as follows:

Portland, Maine and the territory embracing the municipalities of Auburn, South Portland, Falmouth, and Cape Elizabeth, in the State of Maine, and Peak, Long, Cliff, Cushing and Diamond Islands, in the State of Maine.

Authority

This change is being made under the authority of 5 U.S.C. 301 and 19 U.S.C. 2, 66 and 1624.

Regulatory Flexibility Act and Executive Order 12866

CBP establishes, expands and consolidates CBP ports of entry throughout the United States to accommodate the volume of CBP-related activity in various parts of the country. Although a notice was issued for public comment on this subject matter, because this document relates to agency management and organization, it is not subject to the notice and procedure requirements of 5 U.S.C. 553. Accordingly, this document is not subject to the provisions of the Regulatory Flexibility Act (5 U.S.C.601 et. seq.). Agency organization matters such as this port expansion are not subject to Executive Order 12866.

Drafting Information

The principal author of this document was Janet L. Johnson, Regulations Branch. However, personnel from other offices participated in its development.

List of Subjects in 19 CFR Part 101

Customs duties and inspection, Exports, Imports, Organization and functions (Government agencies).

Amendment to the Regulations

For the reasons set forth above, 19 CFR part 101 of the Customs Regulations is amended as set forth below.

PART 101—GENERAL PROVISIONS

1. The general authority citation for part 101 and the specific authority citation for § 101.3 continue to read as follows:

Authority: 5 U.S.C. 301, 19 U.S.C. 2, 66, 1202 (General Note 23, Harmonized Tariff Schedule of the United States), 1623, 1624, and 1646a. Sections 101.3 and 101.4 also issued under 19 U.S.C. 1 and 58b.

* * * * *

2. In the list of ports in § 101.3(b)(1), under the state of Maine, the “Limits of port” column adjacent to “Portland” in the “Ports of entry” column is amended by removing the citation “E.O. 9297, Feb. 1, 1943 (8 FR 1479)” and by adding in its place “CBP Dec. 03-08”.

Robert C. Bonner,
Commissioner, Customs and Border Protection.
Dated: July 14, 2003.
Tom Ridge,
Secretary, Department of Homeland Security.

[FR Doc. 03-18172 Filed 7-17-03; 8:45 am]

BILLING CODE 4820-02-P